DEPARTMENT OF HEALTH AND HUMAN SERVICES

Centers for Medicare & Medicaid Services

42 CFR Parts 411, 412, 419, 488, 489, and 495

[CMS-1785-CN and CMS-1788-CN]

RINs 0938-AV08 and 0938-AV17

Medicare Program; Hospital Inpatient Prospective Payment Systems for Acute Care Hospitals and the Long-Term Care Hospital Prospective Payment System and Policy Changes and Fiscal Year 2024 Rates; Quality Programs and Medicare Promoting Interoperability Program Requirements for Eligible Hospitals and Critical Access Hospitals; Rural Emergency Hospital and Physician-Owned Hospital Requirements; and Provider and Supplier Disclosure of Ownership; and Medicare Disproportionate Share Hospital (DSH) Payments: Counting Certain Days Associated With Section 1115 Demonstrations in the Medicaid Fraction; Correction

AGENCY: Centers for Medicare & Medicaid Services (CMS), Department of Health and Human Services (HHS).

ACTION: Final rule; correction.

SUMMARY: This document corrects technical and typographical errors in the final rule that appeared in the August 28, 2023 Federal Register titled “Medicare Program; Hospital Inpatient Prospective Payment Systems for Acute Care Hospitals and the Long-Term Care Hospital Prospective Payment System and Policy Changes and Fiscal Year 2024 Rates; Quality Programs and Medicare Promoting Interoperability Program Requirements for Eligible Hospitals and Critical Access Hospitals; Rural Emergency Hospital and Physician-Owned Hospital Requirements; and Provider and Supplier Disclosure of Ownership; and Medicare Disproportionate Share Hospital (DSH) Payments: Counting Certain Days Associated with Section 1115 Demonstrations in the Medicaid Fraction” (referred to hereafter as the “FY 2024 IPPS/LTCH PPS final rule”).

DATES: This correcting document is effective October 1, 2023.

FOR FURTHER INFORMATION CONTACT:

Mady Hue, (410) 786-4510, and Andrea Hazeley, (410) 786-3543, MS-DRG Classifications.

Donald Thompson and Michele Hudson, DAC@cms.hhs.gov, (410) 786-4487, Wage Index, Uncompensated Care Payments.

Siddhartha Mazumdar, siddhartha.mazumdar@cms.hhs.gov, Rural Community Hospital Demonstration Program.

Julia Venanzi, julia.venanzi@cms.hhs.gov, Hospital Inpatient Quality Reporting Program and Hospital Value Based Purchasing Program—Administration Issues. Melissa Hager, melissa.hager@cms.hhs.gov and Ngozi Uzokwe, ngozi.uzokwe@cms.hhs.gov—Hospital Inpatient Quality Reporting Program and Hospital Value-Based Purchasing Program—Measures Issues Except Hospital Consumer Assessment of Healthcare Providers and Systems.

Adina Hersko, NewTech@cms.hhs.gov, New Technology Add-On Payments and New COVID-19 Treatments Add-on Payments.

SUPPLEMENTARY INFORMATION:

I. Background

In FR Doc. 2023-16252 of August 28, 2023 (88 FR 58640), there were a number of technical and typographical errors that are identified and corrected in this correcting document. The corrections in this correcting document are applicable to discharges occurring on or after October 1, 2023, as if they had been included in the document that appeared in the August 28, 2023 Federal Register.

II. Summary of Errors

A. Summary of Errors in the Preamble

On page 58642, we are removing a duplicative bulleted paragraph and correcting an inadvertent typographical error in another paragraph.

On page 58696, we are correcting inadvertent errors in procedure code combinations listed in the table titled “ICD-10-PCS Code Pairs Added to Version 41 ICD-10 MS-DRGs 001 and 002: New Short-Term External Heart Assist ICD-10-PCS Combinations.”

On page 58844, we are correcting an inadvertent typographical error in the definition of the acronym “PFS” used in the discussion of the FY 2024 application for new technology add-on payments for Lunsumio™.

On page 58927, we are correcting inadvertent errors in the ICD-10-PCS procedure codes used to identify cases involving the use of the Canary Tibial Extension (CTE) with Canary Health Implanted Reporting Processor (CHIRP) System.

On page 58948, we are correcting the ICD-10-CM codes used to identify cases involving the use of XACDURO® for hospital-acquired bacterial pneumonia (HABP) due to Acinetobacter baumannii and ventilator-associated bacterial pneumonia (VABP) due to Acinetobacter baumannii with the new ICD-10-CM codes effective for FY 2024 that specifically describe Acinetobacter baumannii-related infections.

On page 59051, with regard to our discussion of the calculation of prior year IME resident to bed ratio when there is a Medicare GME affiliation agreement, we are correcting a typographical error.

On pages 59064, 59065, 59071, 59095, 59139, 59174, and 59186, we are correcting technical and typographical errors in several hyperlinks.

On pages 59090, 59113, 59142, 59149, 59164, and 59171, we are correcting technical and typographical errors in several cross-references.

On page 59107, in our discussion of the Hospital Value-Based Purchasing Program, we made and are correcting a typographical error.

On pages 59114 and 59144, we are correcting typographical and technical errors in several section headings.

On pages, 59152, 59154, 59163 and 59279, we are correcting typographical and technical errors in several footnotes.

On pages 59163 and 59199 in our discussion of the Hospital Impatient Quality Reporting Program, we are correcting several typographical and technical errors.

On page 59326 in our discussion of the information collection requirements for the Medicare Promoting Interoperability Program, we are correcting typographical and technical errors.

B. Summary of Errors in the Appendices

On page 59412 in our discussion of effects of requirements under the Hospital Readmissions Reduction Program for FY 2024, we are correcting typographical error in a table reference.

C. Summary of Errors and Correction to Tables Posted on the CMS Website

Several tables for the FY 2024 IPPS/LTCH PPS final rule contained inadvertent errors related to wage data collected from the Medicare cost reports of one hospital (CMS Certification Number (CCN) 340064). Specifically, some of the hours on worksheet S-3, Part II of the cost report were inadvertently double counted for CCN 340064. The use of correct wage data for this hospital (by removing the hours that were double counted) necessitated recalculating the FY 2024 area average hourly wages unadjusted for occupational mix and adjusted for occupational mix for the areas impacted by use of correct wage data for this hospital. We note that this error did not impact the FY 2024 national average hourly wages unadjusted for occupational mix and adjusted for occupational mix, and thus did not necessitate corrections to those data points. In addition, because CCN 340064 is geographically located in a rural area (Core-Based Statistical Area (CBSA) 34 North Carolina) and reclassifies to an urban area (CBSA 16740 Charlotte-Concord-Gastonia, NC-SC), it was necessary to recalculate the wage index for CBSAs 34 and 16740. In addition, the wage data and/or wage indexes are used as inputs to determine the rural floor, imputed floor and out-migration adjustment, and therefore, we made conforming changes and recalculated the rural floor for North Carolina as well as some of the imputed floors and one county out-migration adjustment. We further note that the fixed-loss cost threshold was unchanged after including the correct wage data for this hospital in our calculations. While for certain prior years we have also recalculated the budget neutrality factors to reflect revisions to the calculation of area average hourly wages and/or wage indexes due to the change in the wage data, in combination with the correction of other errors, given the limited magnitude of the changes mentioned earlier, we did not recalculate any budget neutrality factors due to the changes to the wage data. We estimate that this change would have resulted in a reduction of the standardized amount of approximately 3 cents.

We are correcting the errors in the following IPPS tables that are listed on page 59381 of the FY 2024 IPPS/LTCH PPS final rule and available on the internet on the CMS website at https://www.cms.gov/medicare/medicare-fee-for-service-payment/acuteinpatientpps. The tables that are available on the internet have been updated to reflect the revisions discussed in this final rule correcting document.

1. Table 2—Case Mix Index and Wage Index Table by CCN

Because of the inadvertent use of erroneous wage data for one hospital (CCN 340064), we are correcting the values in the columns titled “Average Hourly Wage FY 2024” and “3-Year Average Hourly Wage (2022, 2023, 2024)” for CCN 340064. As mentioned earlier, CCN 340064 is geographically located in a rural area (CBSA 34 North Carolina) and reclassifies to an urban area (CBSA 16740 Charlotte-Concord-Gastonia, NC-SC). Therefore, we used the corrected data of CCN 340064 to recalculate the wage index for CBSA 34 and 16740. As a result, we are correcting the values in the columns titled “FY 2024 Wage Index Prior to Quartile and Cap”, “FY 2024 Wage Index With Quartile”, and “FY 2024 Wage Index With Quartile and Cap”, for providers geographically located in, or reclassified into, CBSAs 34 or 16740. As mentioned earlier, the wage data and/or wage indexes are used as inputs to determine the rural floor, imputed floor and out-migration adjustment. Because the average hourly wage change for this single provider impacted the North Carolina rural floor, we are correcting the values in the columns titled “FY 2024 Wage Index Prior to Quartile and Cap”, “FY 2024 Wage Index with Quartile”, and “FY 2024 Wage Index With Quartile and Cap”, for North Carolina providers who receive the rural floor. Because the average hourly wage change for this single provider affects the area wage index, we are also making conforming changes to the other wage indexes that are consequently impacted, including the imputed floor and out-migration adjustment, and are therefore correcting the values in the columns titled “FY 2024 Wage Index Prior to Quartile and Cap”, “FY 2024 Wage Index With Quartile”, and “FY 2024 Wage Index With Quartile and Cap”, for providers who receive the imputed floor in Delaware, the District of Columbia, or Rhode Island as well as the values in the column titled “Out-Migration Adjustment” for providers in Catawba, NC (Federal Information Processing Standard (FIPS) county code 37035).

2. Table 3—Wage Index Table by CBSA—FY 2024

As mentioned earlier, CCN 340064 is geographically located in a rural area (CBSA 34 North Carolina) and reclassifies to an urban area (CBSA 16740 Charlotte-Concord-Gastonia, NC-SC). Therefore, we used the corrected data of CCN 340064 to recalculate the wage index for CBSAs 34 and 16740. As mentioned earlier, the wage data and/or wage indexes are used as inputs to determine the rural floor, imputed floor and out-migration adjustment. Our use of correct wage data for the provider for which we inadvertently used incorrect wage data necessitates corrections to the values in the columns titled “FY 2024 Average Hourly Wage”, “3-Year Average Hourly Wage (2022, 2023, 2024)”, “Wage Index”, “GAF”, “Reclassified Wage Index”, and “Reclassified GAF” for CBSA 34. The average hourly wage change for this single provider impacts the North Carolina rural floor, which necessitates corrections to the values in the columns titled “Wage Index” and “GAF” for CBSAs that receive the North Carolina rural floor. Because the conforming changes to the wage index impact the calculation of the imputed floor, we are correcting the values in the columns titled “Wage Index”, “GAF”, and “State Imputed Floor” for CBSAs 08, 09, and 41, as well as the values in the columns titled “Reclassified Wage Index” and “Reclassified GAF” for CBSAs that receive the Rhode Island imputed floor.

3. Table 4A—List of Counties Eligible for the Out-Migration Adjustment Under Section 1886(D)(13) of the Act—FY 2024 Final Rule

As mentioned earlier, the wage data and/or wage indexes are used as inputs to determine the out-migration adjustment. Due to the corrections previously discussed in Table 2 and 3, we made conforming changes to the out-migration adjustment based on the corrected wage indexes. Because the conforming changes to the wage index impact the out-migration adjustment, we are correcting the value for the column titled “FY 2024 Out Migration Adjustment” for Catawba, NC (FIPS county code 37035).

We are also correcting an error in the following LTCH PPS table that is listed on page 59381 of the FY 2024 IPPS/LTCH PPS final rule and is available on the internet on the CMS website at https://www.cms.gov/medicare/medicare-fee-service-payment/longtermcarehospitalpps/ltchpps-regulations-and-notices/530633405/cms-1785-f. The tables that are available on the internet have been updated to reflect the revisions discussed in this final rule correction.

4. Table 12B—LTCH PPS Wage Index for Rural Areas for Discharges Occurring From October 1, 2023 Through September 30, 2024

We are correcting the value for CBSA 34 in the column titled “LTCH PPS Wage Index” to reflect the correction to the hospital wage data for CCN 340064 discussed previously. The FY 2024 LTCH PPS standard Federal payment rate area wage index values are calculated using the same data used to compute the FY 2024 acute care hospital inpatient wage index, without taking into account geographic reclassification under sections 1886(d)(8) and 1886(d)(10) of the Social Security Act (the Act) (88 FR 59368). We note that the correction to the inpatient hospital wage data for CCN 340064 necessitated a correction to the FY 2024 LTCH PPS standard Federal payment rate area wage index value for CBSA 34 (rural NC); however, there are currently no LTCHs located in CBSA 34.

5. Table 18—FY 2024 Final Rule Medicare DSH Uncompensated Care Payment Factor 3 (Final Methodology)

We further note that we also made updates to the calculation of Factor 3 of the uncompensated care payment methodology to reflect a hospital's corrected Worksheet S-10 data that, due to a report upload error, was not included in the March 2023 Hospital Cost Report Information System (HCRIS) extract used to calculate Factor 3 for FY 2024. We recalculated the total uncompensated care amount for all DSH-eligible hospitals to reflect this correction. In addition, because the Factor 3 calculated for each hospital reflects that hospital's uncompensated care amount relative to the uncompensated care amount for all DSH hospitals, we also recalculated Factor 3 for all DSH-eligible hospitals. The hospital-specific Factor 3 determines the total amount of the uncompensated care payment a hospital is eligible to receive for the fiscal year. This hospital-specific payment amount is then used to calculate the amount of the interim uncompensated care payments a hospital receives per discharge. Given the very narrowly targeted update to the information used in the calculation of Factor 3, the change to the previously calculated Factor 3 is of limited magnitude for the majority of hospitals.

We note that the fixed-loss cost threshold was unchanged after these Factor 3 recalculations. Similar to our discussion with regard to the wage data corrections, we note that while for certain prior years we recalculated the budget neutrality factors to reflect revisions to the calculation of Factor 3, in combination with the correction of other errors, we did not recalculate any budget neutrality factors due to the changes to Factor 3 for FY 2024 given the limited magnitude of the changes to uncompensated care payments. For example, we note that the correction to the previously described hospital's Worksheet S-10 data resulted in an approximately $90 increase to that hospital's interim uncompensated care payment per discharge amount.

We are correcting the errors in the following IPPS table that is listed on page 59381 of the FY 2024 IPPS/LTCH PPS final rule and is available on the internet on the CMS website at https://www.cms.gov/medicare/medicare-fee-for-service-payment/acuteinpatientpps. The tables that are available on the internet have been updated to reflect the revisions discussed in this final rule correction.

Table 18—FY 2024 Final Rule Medicare DSH Uncompensated Care Payment Factor 3 (Final Methodology). For the FY 2024 IPPS/LTCH PPS final rule, we published a list of hospitals that we identified to be subsection (d) hospitals and subsection (d) Puerto Rico hospitals projected to be eligible to receive interim uncompensated care payments for FY 2024. We are updating the calculations in this table to reflect corrected Worksheet S-10 data for one hospital that, due to a report upload error, was not included in the March 2023 HCRIS extract used to calculate Factor 3 for the FY 2024 IPPS/LTCH PPS final rule. We are revising Factor 3 for all hospitals to reflect this correction. We are also revising the amount of the total uncompensated care payment calculated for each DSH-eligible hospital. The total uncompensated care payment that a hospital receives is used to calculate the amount of the interim uncompensated care payments the hospital receives per discharge.

III. Waiver of Proposed Rulemaking and Delay in Effective Date

Under 5 U.S.C. 553(b) of the Administrative Procedure Act (APA), the agency is required to publish a notice of the proposed rulemaking in the Federal Register before the provisions of a rule take effect. Similarly, section 1871(b)(1) of the Act requires the Secretary to provide for notice of the proposed rulemaking in the Federal Register and provide a period of not less than 60 days for public comment. In addition, section 553(d) of the APA, and section 1871(e)(1)(B)(i) of the Act mandate a 30-day delay in effective date after issuance or publication of a rule. Sections 553(b)(B) and 553(d)(3) of the APA provide for exceptions from the notice and comment and delay in effective date APA requirements; in cases in which these exceptions apply, sections 1871(b)(2)(C) and 1871(e)(1)(B)(ii) of the Act provide exceptions from the notice and 60-day comment period and delay in effective date requirements of the Act as well. Section 553(b)(B) of the APA and section 1871(b)(2)(C) of the Act authorize an agency to dispense with normal rulemaking requirements for good cause if the agency makes a finding that the notice and comment process are impracticable, unnecessary, or contrary to the public interest. In addition, both section 553(d)(3) of the APA and section 1871(e)(1)(B)(ii) of the Act allow the agency to avoid the 30-day delay in effective date where such delay is contrary to the public interest and an agency includes a statement of support.

We believe that this final rule correction does not constitute a rule that would be subject to the notice and comment or delayed effective date requirements. This document corrects technical and typographical errors in the preamble, tables, and appendices included or referenced in the FY 2024 IPPS/LTCH PPS final rule, but does not make substantive changes to the policies or payment methodologies that were adopted in the final rule. As a result, this final rule correction is intended to ensure that the information in the FY 2024 IPPS/LTCH PPS final rule accurately reflects the policies adopted in that document.

In addition, even if this were a rule to which the notice and comment procedures and delayed effective date requirements applied, we find that there is good cause to waive such requirements. Undertaking further notice and comment procedures to incorporate the corrections in this document into the final rule or delaying the effective date would be contrary to the public interest because it is in the public's interest for providers to receive appropriate payments in as timely a manner as possible, and to ensure that the FY 2024 IPPS/LTCH PPS final rule accurately reflects our policies. Furthermore, such procedures would be unnecessary, as we are not altering our payment methodologies or policies, but rather, we are simply implementing correctly the methodologies and policies that we previously proposed, requested comment on, and subsequently finalized. This final rule correction is intended solely to ensure that the FY 2024 IPPS/LTCH PPS final rule accurately reflects these payment methodologies and policies. Therefore, we believe we have good cause to waive the notice and comment and effective date requirements.

IV. Correction of Errors

In FR Doc. 2023-16252 of August 28, 2023 (88 FR 58640), we are making the following corrections:

A. Corrections of Errors in the Preamble

1. On page 58642, second column:

a. Second bulleted paragraph, that begins with the phrase “Section 1814(l)(4) of the Act” and ends with the phrase “a payment adjustment year.” is corrected by removing the paragraph.

b. Third bulleted paragraph, line 9, the phrase “reporting payment for” is corrected to read “reporting period for”.

2. On page 58696, top of the page, the table titled “ICD-10-PCS Code Pairs Added to Version 41 ICD-10 MS-DRGs 001 and 002: New Short-Term External Heart Assist ICD-10-PCS Combinations” is corrected to read as follows:

ICD-10-PCS Code Pairs Added to Version 41 ICD-10 MS-DRGs 001 and 002: New Short-Term External Heart Assist ICD-10-PCS Combinations
ICD-10-PCS code | Description |  | ICD-10-PCS code | Description
02HA0RZ | Insertion of short-term external heart assist system into heart, open approach | and | X2HX0F9 | Insertion of conduit to short-term external heart assist system into thoracic aorta, ascending, open approach, new technology group 9.
02HA3RZ | Insertion of short-term external heart assist system into heart, percutaneous approach | and | X2HL0F9 | Insertion of conduit to short-term external heart assist system into right axillary artery, open approach, new technology group 9.
02HA3RZ | Insertion of short-term external heart assist system into heart, percutaneous approach | and | X2HM0F9 | Insertion of conduit to short-term external heart assist system into left axillary artery, open approach, new technology group 9.

3. On page 58844, second column, first full paragraph, line 11, the phrase “median Physician Fee Schedule (PFS)” is corrected to read, “median progression-free survival (PFS)”

4. On page 58927, third column, first partial paragraph:

a. Line 11 the code, “XNHG0D9” is corrected to read “XNHG0F9”.

b. Line 15, the code, “XNHH0D9” is corrected to read “XNHH0F9”.

5. On page 58948, second column, last partial paragraph, line 15, the sentence “Cases involving the use of XACDURO® that are eligible for new technology add-on payments will be identified by ICD-10-PCS procedure codes XW033K9 (Introduction of sulbactam-durlobactam into peripheral vein, percutaneous approach, new technology group 9) or XW043K9 (Introduction of sulbactam-durlobactam into central vein, percutaneous approach, new technology group 9) in combination with one of the following ICD-10-CM codes: Y95 and J15.6 (describing HABP due to Acinetobacter baumannii); or J95.851 and B96.89 (describing VABP due to Acinetobacter baumannii).” is corrected to read “We note that there are new ICD-10-CM codes effective for FY 2024 to specifically describe Acinetobacter baumannii-related infections: J15.61 (Pneumonia due to Acinetobacter baumannii) and B96.83 (Acinetobacter baumannii as the cause of diseases classified elsewhere). Therefore, cases involving the use of XACDURO® that are eligible for new technology add-on payments will be identified by ICD-10-PCS procedure codes XW033K9 (Introduction of sulbactam-durlobactam into peripheral vein, percutaneous approach, new technology group 9) or XW043K9 (Introduction of sulbactam-durlobactam into central vein, percutaneous approach, new technology group 9) in combination with one of the following ICD-10-CM codes: Y95 and J15.61 (describing HABP due to Acinetobacter baumannii); or J95.851 and B96.83 (describing VABP due to Acinetobacter baumannii).”.

6. On page 59051, third column, first partial paragraph:

a. Line 24, the phrase “adjust the prior year numerator by +10” is corrected to read “adjust the prior year numerator”.

b. Line 28, the phrase “increased by 10 relative to the prior year” is corrected to read “increased relative to the prior year”.

7. On page 59064, second column, first footnote paragraph (footnote 219), lines 2 through 4, the hyperlink, “https://qualitynet.cms.gov/inpatient/measures/mspb/methodology,” is corrected to read, “https://qualitynet.cms.gov/inpatient/measures/hvbp-mspb/methodology.”

8. On page 59065, first column, first footnote paragraph (footnote 226), lines 2 through 4, the hyperlink, “https://qualitynet.cms.gov/inpatient/measures/mspb/methodology,” is corrected to read, “https://qualitynet.cms.gov/inpatient/measures/hvbp-mspb/methodology.”

9. On page 59071, second column, second footnote paragraph (footnote 249), lines 3 through 6, the hyperlink, “https://www.cms.gov/Medicare/Quality-Initiatives-Patient-Assessment-Instruments/Value-Based-Programs/CMS/Quality-Strategy,” is corrected to read, “https://www.cms.gov/Medicare/Quality-Initiatives-Patient-Assessment-Instruments/Value-Based-Programs/CMS-Quality-Strategy.”

10. On page 59090, third column, first paragraph, the reference, “section XXX” is corrected to read, “V.K.2.c.(1).”

11. On page 59095, first column, first footnote paragraph (footnote 292), lines 5 through 8, the hyperlink, “https://aspe.hhs.gov/sites/default/files/migrated_legacy_files//195046/Social-Risk-in-Medicare%E2%80%99s-VBP/2nd-Report-Executive-Summary.pdf,” is corrected to read, https://aspe.hhs.gov/sites/default/files/migrated_legacy_files/195046/Social-Risk-in-Medicare%E2%80%99s-VBP-2nd-Report-Executive-Summary.pdf.

12. On page 59107, second column, first full paragraph, line 7, the phrase “A few commenters made” is corrected to read, “A few commenters”.

13. On page 59113, first column, last paragraph, line 21, the reference “section X.X.” is corrected to “section V.L.6.a.(2)”.

14. On page 59114, first column, first full paragraph, line 1, the section heading that begins “K. Rural” is corrected to read “M. Rural”.

15. On page 59139, third column, footnote paragraph (footnote 348), lines 4 through 6, the hyperlink “https://mmshub.cms.gov/sites/default/files/2022-prliminary-analysis-pacltc-workgroup.pdf” is corrected to read “https://mmshub.cms.gov/sites/default/files/2022-preliminary-analysis-pacltc-workgroup.pdf”.

16. On page 59142, first column, first paragraph, line 20, the page reference “(88 FR 38486)” is corrected to read “(88 FR 36488)”.

17. On page 59144, third column, after the third full paragraph, line 1, the section heading that begins., “5. Proposed New Measures” is corrected to read “5. New Measures”.

18. On page 59149, third column, second full paragraph, line 4, the reference “section IX.H.10.a.2.” is corrected to read “section IX.F.”.

19. On page 59152, second column, footnote paragraph (footnote 433), line 2 and (footnote 434) line 2, the reference “(April 2022)” is corrected to read “(June 2023)”.

20. On page 59154, first column, footnote paragraph (footnote 446), line 3, the reference “(April 2022)” is corrected to read “(June 2023)”.

21. On page 59163:

a. First column, last paragraph, lines 3 through 4, the phrase “Hybrid Hospital-Wide Mortality (Hybrid HWM) measure” is corrected to read “Hybrid Hospital-Wide All-Cause Risk Standardized Mortality (HWM) measure”.

b. Second column, second footnote paragraph (footnote 525), line 3, the footnote is corrected by adding the following sentence “Available at: https://pubmed.ncbi.nlm.nih.gov/25068076/.”.

22. On page 59164, second column, second full paragraph, line 18, the reference “section B.6.d” is corrected to read “section XII.B.7.d.”.

23. On page 59167, third column, third paragraph, lines 3 through 4, the phrase “Hybrid Hospital-Wide Readmission (Hybrid HWR) measure” is corrected to read “Hybrid Hospital-Wide All-Cause Readmission (HWR) measure”.

24. On page 59171, second column, second full paragraph, line 13, the reference “section X.k” is corrected to read “section V.K.”.

25. On page 59174, second column, second footnote paragraph (footnote 565), lines 3 through 4, the hyperlink, “https://manual.jointcommissionorg/releases/TJC2023B/MIF0166.html” is corrected to read “https://manual.jointcommission.org/releases/TJC2023B/MIF0166.html”.

26. On page 59180, first column, first paragraph, lines 1 through 4, the section heading, “c. Summary of Previously Finalized and Proposed Hospital IQR Program Measures” is corrected to read “c. Summary of Previously Finalized and Newly Adopted Hospital IQR Program Measures”.

27. On page 59186, third column, sixth full footnote paragraph (footnote 583), lines 4 through 6, the website “https://forms.ihi.org/hubfs/Guide%20To%20Recognition%20for%20GSV%20Siteslowbar;FINAL.pdf” is corrected to read “https://forms.ihi.org/hubfs/Guide%20To%20Recognition%20for%20GSV%20Sites_FINAL.pdf”.

28. On page 59199, third column, fourth full paragraph, lines 3 through 4, the phrase “On commenter” is corrected to read “One commenter”.

29. On page 59279, second paragraph (table key for Table IX.F.-04.), the word “pubslihing” is corrected to read “appearing”.

30. On page 59326, second column, first paragraph, line 7, the phrase “per eligible.” is corrected to read “per eligible hospital and CAH as well as an additional 4 hours annually for CAHs to report eCQMs.”.

B. Correction of Errors in the Appendices

1. On page 59412, second column, first full paragraph, line 8, the table reference “Table I.G.-01” is corrected to read “Table I.G.-03”.

Wilma Robinson,
Deputy Executive Secretary, Department of Health and Human Services.

[FR Doc. 2023-22060 Filed 9-29-23; 4:15 pm]

BILLING CODE 4120-01-P